Presidential Determination No. 2023-12 of September 15, 2023

Presidential Determination on Major Drug Transit or Major Drug Illicit Countries for Fiscal Year 2024

Memorandum for the Secretary of State

By the authority vested in me as President by the Constitution and the laws of the United States, including section 706(1) of the Foreign Relations Authorization Act, Fiscal Year 2003 (Public Law 107-228) (FRAA), I hereby identify the following countries as major drug transit or major illicit drug producing countries: Afghanistan, The Bahamas, Belize, Bolivia, Burma, the People's Republic of China (PRC), Colombia, Costa Rica, the Dominican Republic, Ecuador, El Salvador, Guatemala, Haiti, Honduras, India, Jamaica, Laos, Mexico, Nicaragua, Pakistan, Panama, Peru, and Venezuela.

A country's presence on the foregoing list is not necessarily a reflection of its government's counterdrug efforts or level of cooperation with the United States. Consistent with the statutory definition of a major drug transit or major illicit drug producing country set forth in sections 481(e)(2) and 481(e)(5) of the Foreign Assistance Act of 1961, as amended (Public Law 87-195) (FAA), the reason countries are placed on the list is the combination of geographic, commercial, and economic factors that allow drugs to be transited or produced, even if a government has engaged in robust and diligent narcotics control and law enforcement measures.

The James M. Inhofe National Defense Authorization Act for Fiscal Year 2023 (Public Law 117-263) amended the definition of major drug source countries to include source countries of precursor chemicals used to produce illicit drugs significantly affecting the United States. For countries with large chemical and pharmaceutical industries, preventing precursor chemicals from being diverted to the production of illicit drugs is a particularly difficult challenge, including for the United States and other countries with strict regulatory regimes to prevent diversion. The PRC has been identified as a major source country due to this change in legislation, and the United States strongly urges the PRC and other chemical source countries to tighten chemical supply chains and prevent diversion.

Pursuant to section 706(2)(A) of the FRAA, I hereby designate Bolivia, Burma, and Venezuela as having failed demonstrably during the previous 12 months to both adhere to their obligations under the international counternarcotics agreements and to take the measures required by section 489(a)(1) of the FAA. Included with this determination are justifications for the designations of Bolivia, Burma, and Venezuela, as required by section 706(2)(B) of the FRAA. I have also determined, in accordance with provisions of section 706(3)(A) of the FRAA, that United States programs that support Bolivia, Burma, and Venezuela are vital to the national interests of the United States.

Although the rate of drug overdose deaths in the United States is flattening after years of sharp increases, more than 109,000 lives were lost to drug overdoses in 2022, according to preliminary data from the Centers for Disease Control and Prevention. This remains unacceptably high, and my Administration is deploying unprecedented resources and building new partnerships to confront this public health and security crisis. Domestically, in the last fiscal year alone, the United States allocated more than $24 billion to expand evidence-based prevention and treatment, including harm reduction and recovery support services, with targeted investments to meet the needs of populations at greatest risk for overdose and substance use disorder. Beyond these additional resources, my Administration expanded access to Naloxone, which can reverse opioid-related overdoses, and made this life-saving medicine available over-the-counter. My Administration has also removed barriers to treatment, including by working with the Congress on bipartisan legislation. My Fiscal Year 2024 Budget calls for an even greater historic investment of $46.1 billion for National Drug Control Program agencies, a more than $2 billion increase from what was enacted during the previous year. This request also includes significant investments in reducing the supply of illicit drugs originating from beyond our borders.

The vast majority of illicit drugs causing the most damage in the United States originate from beyond our borders, and our most effective means of reducing the availability of these drugs is to expand and improve our cooperation with international partners. Most drug overdose deaths within the United States involve illicit synthetic drugs and particularly synthetic opioids such as fentanyl. These synthetic drugs can be produced anywhere using precursor chemicals widely available for legitimate purposes, at a fraction of the cost and time it takes criminal organizations to produce dangerous drugs from plants.

Every country and region of the globe faces its own challenges from synthetic drugs. In Africa, the synthetic opioid tramadol is driving increasing numbers of injuries and fatalities, especially when mixed with other drugs. In the Middle East, synthetic stimulants are trafficked and sold as counterfeit captagon in large quantities. Ketamine—a synthetic anesthetic with hallucinogenic effects—is increasingly encountered throughout Asia, and it is being found mixed with methamphetamine, which appears to be growing more prevalent and more potent all over the world. And the categories of synthetic drugs are constantly shifting, as drug traffickers adjust formulas to avoid international controls and domestic regulations to create new demand. More than 1,100 new psychoactive substances and designer drugs have been detected and reported to the United Nations over the past decade alone.

To confront this common challenge, the United States launched this past summer a new Global Coalition to Address Synthetic Drug Threats. This diverse coalition of countries and international organizations will share best practices and expand cooperation to prevent the illicit manufacture and trafficking of synthetic drugs, detect emerging drug threats and use patterns, and promote public health interventions to prevent and reduce drug use and promote recovery. The United States welcomes all like-minded governments to participate in the work of this coalition and join efforts against these rapidly evolving global threats.

The political commitment of our international partners remains critical to achieving success against illicit drug threats, and no country is more important than Mexico. Under the Bicentennial Framework for Security, Public Health, and Safe Communities, our two countries have cooperated to seize greater volumes of fentanyl and other drugs. We have worked successfully during the last year to improve law enforcement collaboration, prevent the diversion of precursor chemicals, and arrest key organized crime figures involved in drugs and firearms trafficking, migrant smuggling, and other criminal activity. Sadly, some of these arrests resulted in the loss of lives of Mexican officials, and their sacrifices underscore the shared commitment from both countries to do what is necessary to fight these criminal organizations. To that end and to build on the increased cooperation of the past year, both countries should continue strengthening law enforcement information sharing and collaboration; build capacity to detect and counter drug production and trafficking and diversion of chemicals and drug-related equipment; and improve mechanisms to monitor, prevent, and treat drug substance use disorders.

With our key partners in South America, the United States will continue to support ongoing efforts to reduce coca cultivation and cocaine production, expand access to justice, and promote alternative livelihoods. Colombia has historically been a strong partner in the fight against the drug trade. Nevertheless, illicit coca cultivation and cocaine production remain at historically high levels, and I urge the Government of Colombia to prioritize efforts to expand its presence in coca-producing regions and achieve sustainable progress against criminal organizations. In Bolivia, I encourage additional steps by the government to safeguard the country's licit coca markets from criminal exploitation, reduce illicit coca cultivation that continues to exceed legal limits under Bolivia's domestic laws for medical and traditional use, and continue to expand cooperation with international partners to disrupt transnational criminal networks.

Afghanistan has been removed from the list of countries determined to have “failed demonstrably” due to progress made within that country over the past year in reducing the cultivation of opium poppy and production of illicit narcotics. However, I remain concerned by the continuation of the illicit drug trade within and originating from Afghanistan, including methamphetamine. The country's drug control efforts must be sustained and expanded to include meaningful steps against drug trafficking and the drug supply chain, including by eliminating illicit drug stockpiles and curbing methamphetamine production. I will reconsider Afghanistan's status during the next annual review based on whether these additional steps are taken, in keeping with Afghanistan's international drug control commitments and in full respect for the human rights of its people.

You are authorized and directed to submit this designation, with the Bolivia, Burma, and Venezuela memoranda of justification, under section 706 of the FRAA, to the Congress, and to publish this determination in the Federal Register.

THE WHITE HOUSE,

Washington, September 15, 2023

[FR Doc. 2023-21378

Filed 9-26-23; 11:15 am]

Billing code 4710-10-P